DEPARTMENT OF COMMERCE

International Trade Administration

The Manufacturing Council: Meeting

AGENCY: International Trade Administration, U.S. Department of Commerce.

ACTION: Supplemental Notice of a Meeting.

SUMMARY: The Manufacturing Council will hold a meeting to deliberate for approval a draft letter of recommendation on Sustainable Manufacturing metrics.

DATES: September 23, 2008.

Time: 4 p.m. (EDT).

ADDRESSES: Louise Slaughter Building Conference Room 2120, Rochester Institute of Technology, Center for Integrated Manufacturing Studies, 111 Lomb Memorial Drive, Rochester, NY 14623.

FOR FURTHER INFORMATION, CONTACT: The Manufacturing Council Executive Secretariat, Room 4043, Washington, DC 20230 (Phone: 202-482-1369), or visit the Council's Web site at http://www.manufacturing.gov/council.

Dated: September 11, 2008.
Kate Sigler,
Executive Secretary, The Manufacturing Council.

[FR Doc. E8-21572 Filed 9-11-08; 4:15 pm]

BILLING CODE 3510-DR-P